SOCIAL SECURITY ADMINISTRATION

[Docket No. SSA-2012-0018]

Reinstate Index to Chapter III in 20 CFR

AGENCY: Social Security Administration.

ACTION: Notice.

SUMMARY: At the request of the Office of the Federal Register, we are reinstating the finding aid “Index to Chapter III” in Title 20 of the Code of Federal Regulations (CFR). The finding aid contains a list of all Acquiescence Rulings published in the Federal Register from January 11, 1990 through April 1, 2012.

DATES: The notice is effective March 27, 2012. The Office of the Federal Register will include the Index in the April 2012 edition of Title 20, chapter III of the CFR.

FOR FURTHER INFORMATION CONTACT: Martin Sussman, Social Security Administration, Office of Regulations, 6401 Security Boulevard, Baltimore, MD 21235-6401, (410) 965-1767. For information on eligibility or filing for benefits, call our national toll-free number, 1-800-772-1213 or TTY 1-800-325-0778, or visit our Internet site, Social Security Online, at http://www.socialsecurity.gov.

SUPPLEMENTARY INFORMATION:

We are reinstating the “Index to Chapter III” as a finding aid in our chapter of Title 20 of the CFR. The Index lists the Acquiescence Rulings we published in the Federal Register from January 11, 1990, through April 1, 2012. The Index last appeared as a finding aid in the April 1, 2008 edition of our chapter of the CFR.

You may also find a listing of Acquiescence Rulings on our Web site at http://mwww.socialsecurity.gov/OP_Home/rulings/rulfind1.html.

The Office of the Federal Register requested that we publish this notice, including the text of the Index, which follows. The Office of the Federal Register will include the Index in the April 2012 edition of Title 20, chapter III of the CFR.

Index to Chapter III

INDEX TO CHAPTER III—SOCIAL SECURITY ACQUIESCENCE RULINGS

EDITORIAL NOTE: This listing is provided for information purposes only. It is compiled and kept up-to-date by the Social Security Administration.

This listing contains all Acquiescence Rulings (ARs) published in the Federal Register under the requirements of 20 CFR 402.35(b)(2) during the period from January 11, 1990, through April 1, 2012. The listing includes the AR number, title, publication date and the Federal Register reference number. (The parenthetical number that follows each AR number refers to the United States judicial circuit involved.) This notice also lists ARs that were rescinded during this period. In addition, SSA has included Federal Register references for three prior cumulative AR listing notices.

SSA believes this publication will assist individuals in finding ARs.

The CFR may not state the circuitwide standard in effect when SSA has determined that the holding in a decision of a United States Court of Appeals is at variance with SSA's national interpretation.

ACQUIESCENCE RULINGS

Published cumulative lists of ARs relating to claims under title II and title XVI of the Social Security Act and part B of the Black Lung Benefits Act were issued for ARs published prior to January 11, 1990.

1. The first notice announcing 14 ARs issued during the period from January 23, 1986, through April 30, 1986, was published in the Federal Register on June 4, 1986 (51 FR 20354).

2. A second notice announcing 12 additional ARs issued during the period from May 20, 1986, through March 31, 1987, was published in the Federal Register on August 7, 1987 (52 FR 29911).

3. A third notice announcing 11 more ARs, issued during the period from May 1, 1987, through November 14, 1988, the withdrawal of one AR that was issued earlier, and the withdrawal of one of the ARs issued during this period was published in the Federal Register on July 10, 1990 (55 FR 28302).

AR 86-2R(2) Rosenberg v. Richardson, 538 F.2d 487 (2d Cir. 1976); Capitano v. Secretary of HHS, 732 F.2d 1066 (2d Cir. 1984)—Entitlement of a Deemed Widow When a Legal Widow is Entitled on the Same Earnings Record—Title II of the Social Security Act.

Published: June 25, 1992, at 57 FR 28527.

NOTE: The original AR for the Second Circuit Court of Appeals' holding in Rosenberg and Capitano (AR 86-2(2)), issued January 23, 1986, was rescinded and replaced by this revised AR.

AR 86-19R(11) Woodson v. Schweiker, 656 F.2d 1169 (5th Cir. 1981)—Interpretation of the Deemed Marriage Provision—Title II of the Social Security Act.

Published: June 25, 1992, at 57 FR 28524.

NOTE: The original AR applicable in the Eleventh Circuit for the Fifth Circuit Court of Appeals' holding in Woodson (AR 86-19(11)), issued May 22, 1986, was rescinded and replaced by this revised AR.

AR 90-1(9) Paxton v. Secretary of Health and Human Services, 856 F.2d 1352 (9th Cir. 1988)—Treatment of Dependent's Portion of Augmented Veterans Benefit Paid Directly to Veteran—Title XVI of the Social Security Act.

Published: July 16, 1990, at 55 FR 28946. Rescinded—See section on Rescissions in this notice.

AR 90-2(2) Ruppert v. Bowen, 871 F.2d 1172 (2d Cir. 1989)—Evaluation of a Rental Subsidy as In-Kind Income for Supplemental Security Income (SSI) Benefit Calculation Purposes—Title XVI of the Social Security Act.

Published: July 16, 1990, at 55 FR 28947.

AR 90-3(4) Smith v. Bowen, 837 F.2d 635 (4th Cir. 1987)—Use of Vocational Expert or Other Vocational Specialist in Determining Whether a Claimant Can Perform Past Relevant Work—Titles II and XVI of the Social Security Act.

Published: July 16, 1990, at 55 FR 28949. Rescinded—See section on Rescissions in this notice.

AR 90-4(4) Culbertson v. Secretary of Health and Human Services, 859 F.2d 319 (4th Cir. 1988), Young v. Bowen, 858 F.2d 951 (4th Cir. 1988)—Waiver of Administrative Finality in Proceedings Involving Unrepresented Claimants Who Lack the Mental Competence to Request. Administrative Review—Titles II and XVI of the Social Security Act.

Published: July 16, 1990, at 55 FR 28943.

AR 90-5(2) Kier v. Sullivan, 888 F.2d 244 (2d Cir. 1989), reh'g denied, January 22, 1990—Assessment of Residual Functiona1 Capacity in Disabled Widows' Cases—Title II of the Social Security Act.

Published: September 18, 1990, at 55 FR 38400. Rescinded—See section on Rescissions in this notice.

AR 90-6(1) Cassus v. Secretary of Health and Human Services, 893 F.2d 454 (lst Cir. 1990), reh'g denied, April 9, 1990—Assessment of Residual Functional Capacity in Disabled Widows' Cases—Title II of the Social Security Act.

Published: September 18, 1990, at 55 FR 38398. Rescinded—See section on Rescissions in this notice.

AR 90-7(9) Ruff v. Sullivan, 907 F.2d 915 (9th Cir. 1990)—Assessment of Residual Functional Capacity in Disabled Widows' Cases—Title II of the Social Security Act.

Published: September 18, 1990, at 55 FR 38402. Rescinded—See section on Rescissions in this notice.

AR 91-1(5) Lidy v. Sullivan, 911 F.2d 1075 (5th Cir. 1990)—Right to Subpoena an examining Physician for Cross-examination Purposes—Titles II and XVI of the Social Security Act.

Published: December 31, 1991, at 56 FR 67625 as AR 91-X(5).

Correction Notice Published: May 1, 1992, at 57 FR 18899—AR number changed to 91-1(5).

AR 92-1(3) Mazza v. Secretary of Health and Human Services, 903 F.2d 953 (3d Cir. 1990)—Order of Effectuation in Concurrent Application Cases (Title II/Title XVI).

Published: January 10, 1992, at 57 FR 1190 as AR 91-X(3).

Correction Notice Published: May 1, 1992, at 57 FR 18899—AR number changed to 92-1(3).

AR 92-2(6) Difford v. Secretary of Health and Human Services, 910 F.2d 1316 (6th Cir. 1990), reh 'g denied, February 7, 1991—Scope of Review on Appeal in a Medical Cessation of Disability Case—Title II of the Social Security Act.

Published: March 17, 1992, at 57 FR 9262.

AR 92-3(4) Branham v. Heckler, 775 F.2d 1271 (4th Cir. 1985); Flowers v. U.S. Department of Health and Human Services, 904 F.2d 211 (4th Cir. 1990)—What Constitutes a Significant-Work-Related Limitation of Function.

Published: March 10, 1992, at 57 FR 8463. Rescinded-See section on Rescissions in this notice.

AR 92-4(11) Bloodsworth v. Heckler, 703 F.2d 1233 (11th Cir. 1983)—Judicial Review of an Appeals Council Dismissal of a Request for Review of an Administrative Law Judge (ALJ) Decision.

Published: April 8, 1992, at 57 FR 11961.

AR 92-5(9) Quinlivan v. Sullivan, 916 F.2d 524 (9th Cir. 1990)—Meaning of the Term “Against Equity and Good Conscience” in the Rules for Waiver of Recovery of an Overpayment—Titles II and XVI of the Social Security Act; Title IV of the Federal Mine Safety and Health Act of 1977.

Published: June 22, 1992, at 57 FR 27783.

AR 92-6(10) Walker v. Secretary of Health and Human Services, 943 F.2d 1257 (l0th Cir. 1991)—Entitlement to Trial Work Period Before Approval of an Award for Benefits and Before Twelve Months Have Elapsed Since Onset of Disability—Titles II and XVI of the Social Security Act.

Published: September 17, 1992, at 57 FR 43007.

AR 92-7(9) Gonzales v. Sullivan, 914 F.2d 1197 (9th Cir. 1990)—Effect of Initial Determination Notice Language on the Application of Administrative Finality-Titles II and XVI of the Social Security Act.

Published: September 30. 1992, at 57 FR 45061.

AR 93-1(4) Branham v. Heckler, 775 F.2d 1271 (4th Cir. 1985); Flowers v. U.S. Department of Health and Human Services, 904 F.2d 211 (4th Cir. 1990)—What Constitutes an Additional and Significant Work-Related Limitation of Function—Titles II and XVI of the Social Security Act.

Published: April 29, 1993, at 58 FR 25996.

NOTE: The original AR for the Fourth Circuit Court of Appeals' holding in Branham and Flowers (AR 92-31(4)), issued March 10, 1992, was revised to reflect a regulatory change regarding the IQ Listing range. There were no other substantive changes to this AR. Rescinded-See section on Rescissions in this notice.

AR 93-2(2) Conley v. Bowen, 859 F.2d 261 (2d Cir. 1988)—Determination of Whether an Individual with a Disabling Impairment Has Engaged in Substantial Gainful Activity Following a Reentitlement Period—Title II of the Social Security Act.

Published: May 17, 1993, at 58 FR 28887. Rescinded-See section on Rescissions in this notice.

AR 93-3(6) Akers v. Secretary of Health and Human Services, 966 F.2d 205 (6th Cir. 1992)—Attorney's Fees Based in Part on Continued Benefits Paid to Social Security Claimants—Title II of the Social Security Act.

Published: July 29, 1993, at 58 FR 40662. Rescinded-See section on Rescissions in this notice.

AR 93-4(2) Condon and Brodner v. Bowen, 853 F.2d 66 (2d Cir. 1988)—Attorney's Fees Based in Part on Continued Benefits Paid to Social Security Claimants—Title II of the Social Security Act.

Published: July 29, 1993, at 58 FR 40663. Rescinded-See section on Rescissions in this notice.

AR 93-5(11) Shoemaker v. Bowen, 853 F.2d 858 (11th Cir. 1988)—Attorney's Fees Based in Part on Continued Benefits Paid to Social Security Claimants—Title II of the Social Security Act.

Published: July 29, 1993, at 58 FR 40665. Rescinded-See section on Rescissions in this notice.

AR 93-6(8) Brewster on Behalf of Keller v. Sullivan, 972 F.2d 898 (8th Cir. 1992)—Interpretation of the Secretary's Regulation Regarding Presumption of Death—Title II of the Social Security Act

Published: August 16, 1993, at 58 FR 43369. Rescinded-See section on Rescissions in this notice.

AR 94-1(10) Wolfe v. Sullivan, 988 F.2d 1025 (10th Cir. 1993)—Contributions to Support re: Posthumous Illegitimate Child—Title II of the Social Security Act.

Published: June 27, 1994, at 59 FR 33003.

AR 94-2(4) Lively v. Secretary of Health and Human Services, 820 F.2d 1391 (4th Cir. 1987)—Effect of Prior Disability Findings on Adjudication of a Subsequent Disability Claim Arising Under the Same Title of the Social Security Act—Titles II and XVI of the Social Security Act.

Published: July 7, 1994, at 59 FR 34849. Rescinded-See section on Rescissions in this notice.

AR 95-1(6) Preslar v. Secretary of Health and Human Services, 14 F.3d 1107 (6th Cir. 1994)— Definition of Highly Marketable Skills for Individuals Close to Retirement Age—Titles II and XVI of the Social Security Act.

Published: May 4, 1995, at 60 FR 22091. Rescinded-See section on Rescissions in this notice.

AR 95-2(9) Hodge v. Shalala. 27 F.3d 430 (9th Cir. 1994)—Workers' Compensation—Proration of a Lump-Sum Award for Permanent Disability Over the Remainder of an Individual's Working Life Under Oregon Workers' Compensation Law—Title II of the Social Security Act.

Published: July 12, 1995, at 60 FR 35987.

AR 96-1(6) DeSonier v. Sullivan, 906 F.2d 228 (6th Cir. 1990)—Method of Application of State Intestate Succession Law in Determining Entitlement to Child's Benefits—Title II of the Social Security Act.

Published: June 3, 1996, at 61 FR 27942.

AR 97-1(1) Parisi By Cooney v. Chater, 69 F.3d 614 (1st Cir. 1995)—Reduction of Benefits Under the Family Maximum in Cases Involving Dual Entitlement—Title II of the Social Security Act.

Published: January 13, 1997, at 62 FR 1792. Rescinded-See section on Rescissions in this notice.

AR 97-2(9) Gamble v. Chater, 68 F.3d 319 (9th Cir. 1995)—Amputation of a Lower Extremity—When the Inability to Afford the Cost of a Prosthesis Meets the Requirements of Section 1.10C of the Listing of Impairments—Titles II and XVI of the Social Security Act.

Published: January 13, 1997, at 62 FR 1791. Rescinded-See section on Rescissions in this notice.

AR 97-3(11) Daniels on Behalf of Daniels v. Sullivan, 979 F.2d 1516 (11th Cir. 1992)—Application of a State's Intestacy Law Requirement that Paternity be Established During the Lifetime of the Father—Title II of the Social Security Act.

Published: August 4, 1997, at 62 FR 41989.

AR 97-4(9) Chavez v. Bowen, 844 F.2d 691 (9th Cir. 1988)—Effect of a Prior Final Decision That a Claimant is Not Disabled, And of Findings Contained Therein, On Adjudication of a Subsequent Disability Claim Arising Under the Same Title of the Social Security Act—Titles II and XVI of the Social Security Act.

Published: December 3, 1997, at 62 FR 64038.

AR 98-1(8) Newton v. Chater, 92 F.3d 688 (8th Cir. 1996)—Entitlement to Trial Work Period Before Approval of an Award for Benefits and Before Twelve Months Have Elapsed Since Onset of Disability—Titles II and XVI of the Social Security Act.

Published: February 23, 1998, at 63 FR 9037. Rescinded-See section on Rescissions in this notice.

AR 98-2(8) Sird v. Chater, 105 F.3d 401 (8th Cir. 1997)—Mental Retardation—What Constitutes an Additional and Significant Work-Related Limitation of Function—Titles II and XVI of the Social Security Act.

Published: February 24, 1998, at 63 FR 9279. Rescinded-See section on Rescissions in this notice.

AR 98-3(6) Dennard v. Secretary of Health and Human Services, 907 F.2d 598 (6th Cir. 1990)—Effect of a Prior Finding of the Demands of Past Work on Adjudication of a Subsequent Disability Claim Arising Under the Same Title of the Social Security Act—Titles II and XVI of the Social Security Act.

Published: June 1, 1998. at 63 FR 29770.

AR 98-4(6) Drummond v. Commissioner of Social Security, 126 F.3d 1337 (6th Cir. 1997)—Effect of Prior Findings on Adjudication of a Subsequent Disability Claim Arising Under the Same Title of the Social Security Act—Titles II and XVI of the Social Security Act.

Published: June 1, 1998, at 63 FR 29771.

AR 98-5(8) State of Minnesota v. Apfel, 151 F.3d 742 (8th Cir. 1998)—Coverage for Employees Under a Federal-State Section 218 Agreement or Modification and Application of the Student Services Exclusion From Coverage to Services Performed by Medical Residents—Title II of the Social Security Act.

Published: October 30, 1998, at 63 FR 58444.

AR 99-1(2) Florez on Behalf of Wallace v. Callahan, 156 F.3d 438 (2d Cir. 1998)— Supplemental Security Income—Deeming of Income From a Stepparent to a Child When the Natural Parent is Not Living In the Same Household—Title XVI of the Social Security Act.

Published: February 1, 1999, at 64 FR 4923. Rescinded-See section on Rescissions in this notice.

AR 99-2(8) Kerns v. Apfel, 160 F.3d 464 (8th Cir. 1998)—Definition of Highly Marketable Skills for Individuals Close to Retirement Age—Titles II and XVI of the Social Security Act.

Published: March 11, 1999, at 64 FR 12205. Rescinded-See section on Rescissions in this notice.

AR 99-3(5) McQueen v. Apfel, 168 F.3d 152 (5th Cir. 1999)— Definition of Highly Marketable Skills for Individuals Close to Retirement Age—Titles II and XVI of the Social Security Act.

Published: May 27, 1999, at 64 FR 28853. Rescinded-See section on Rescissions in this notice.

AR 99-4(11) Bloodsworth v. Heckler, 703 F.2d 1233 (11th Cir. 1983)—Judicial Review of an Appeals Council Dismissal of a Request for Review of an Administrative Law Judge Decision—Titles II and XVI of the Social Security Act.

Published: October 26, 1999, at 64 FR 57687.

NOTE: The original AR for the Eleventh Circuit Court of Appeals' holding in Bloodsworth (AR 92-4(11)), issued April 8, 1992, was revised to delete a parenthetical statement and to update the AR's language. These revisions were technical corrections only and did not involve any substantive changes.

AR 00-1(4) Albright v. Commissioner of the Social Security Administration, 174 F.3d 473 (4th Cir. 1999)—Effect of Prior Disability Findings on Adjudication of a Subsequent Disability Claim—Titles II and XVI of the Social Security Act.

Published: January 12, 2000, at 65 FR 1936.

AR 00-2(7) Hickman v. Apfel. 187 F.3d 683 (7th Cir. 1999)—Evidentiary Requirements for Determining Medical Equivalence to a Listed Impairment—Titles II and XVI of the Social Security Act.

Published: May 3, 2000, at 65 FR 25783. Rescinded-See section on Rescissions in this notice.

AR 00-3(10) Haddock v. Apfel, 196 F.3d 1084 (l0th Cir. 1999)—Use of Vocational Expert Testimony and the Dictionary of Occupational Titles Under 20 CFR 404.1566, 416.966—Titles II and XVI of the Social Security Act.

Published: June 20, 2000, at 65 FR 38312. Rescinded-See section on Rescissions in this notice.

AR 00-4(2) Curry v. Apfel, 209 F.3d 117 (2d Cir. 2000)—Burden of Proving Residual Functional Capacity at Step Five of the Sequential Evaluation Process for Determining Disability—Titles II and XVI of the Social Security Act.

Published: September 11, 2000, at 65 FR 54879. Rescinded-See section on Rescissions in this notice.

AR 00-5(6) Salamalekis v. Apfel, 221 F.3d 828 (6th Cir. 2000)—Entitlement to Trial Work Period Before Approval of an Award of Benefits and Before 12 Months Have Elapsed Since the Alleged Onset of Disability—Titles II and XVI of the Social Security Act.

Published: November 15, 2000, at 65 FR 69116. Rescinded-See section on Rescissions in this notice.

AR 01-1(3) Sykes v. Apfel, 228 F.3d 259 (3d Cir. 2000)—Using the Grid Rules as a Framework for Decisionmaking When an Individual's Occupational Base is Eroded by a Nonexertional Limitation—Titles II and XVI of the Social Security Act.

Published: January 25, 2001, at 66 FR 7829.

AR 03-1(7) Blakes v. Barnhart, 331 F.3d 565 (7th Cir. 2003)—Cases Involving Sections 12.05 and 112.05 of the Listing of Impairments That Are Remanded By a Court for Further Proceedings Under Titles II and XVI of the Social Security Act.

Published: December 23, 2003, at 613 FR 74279.

AR 04-1(9) Howard on behalf of Wolff v. Barnhart, 341 F.3d 1006 (9th Cir. 2003)—Applicability of the Statutory Requirement for Pediatrician Review in Childhood Disability Cases to the Hearings and Appeals Levels of the Administrative Review Process Under Title XVI of the Social Security Act.

Published: April 26, 2004, at 69 FR 22578.

AR 05-1(9) Gillett-Netting v. Barnhart, 371 F.3d 593 (9th Cir. 2004), reh'g denied, December 14, 2004 —Applicability of State Law and the Social Security Act in Determining Whether a Child Conceived by Artificial Means after an Insured Person's Death is Eligible for Child's Insurance Benefits—Title II of the Social Security Act.

Published: September 22, 2005, at 70 FR 55656.

AR 06-1(2) Fowlkes v. Adamec, 432 F.3d 90 (2d Cir. 2005)—Determining Whether an Individual is a Fugitive Felon Under the Social Security Act (Act)—Titles II and XVI of the Act.

Published: April 6, 2000, at 71 FR 17551.

RESCISSIONS WITHOUT REPLACEMENT ARs

AR 86-1(9) Summy v. Schweiker, 688 F.2d 1233 (9th Cir. 1982)—Third party payments for medical care or services—Title XVI of the Social Security Act.

Notice of Rescission Published: July 5, 1994, at 59 FR 34444.

AR 86-6(3) Aubrey v. Richardson, 462 F.2d 782 (3d Cir. 1972); Shelnutt v. Heckler, 723 F.2d 1131 (3d Cir. 1983)—Interpretation of the Secretary's Regulation Regarding Presumption of Death—Title II of the Social Security Act.

Notice of Rescission Published: July 14, 1995, at 60 FR 36327.

AR 86-7(5) Autrey v. Harris, 639 F.2d 1233 (5th Cir. 1981); Wages v. Schweiker, 659 F.2d 59 (5th Cir. 1981)—Interpretation of the Secretary's Regulation Regarding Presumption of Death—Title II of the Social Security Act.

Notice of Rescission Published: July 14, 1995, at 60 FR 36327.

AR 86-8(6) Johnson v. Califano, 607 F.2d 1178 (6th Cir. 1979)—Interpretation of the Secretary's Regulation Regarding Presumption of Death—Title II of the Social Security Act.

Notice of Rescission Published: July 14, 1995, at 60 FR 36327.

AR 86-9(9) Secretary of Health, Education and Welfare v. Meza, 386 F.2d 389 (9th Cir. 1966); Gardner v. Wilcox, 370 F.2d 492 (9th Cir. 1966)—Interpretation of the Secretary's Regulation Regarding Presumption of Death—Title II of the Social Security Act.

Notice of Rescission Published: July 14, 1995, at 60 FR 36327.

AR 86-10(10) Edwards v. Califano, 619 F.2d 865 (10th Cir. 1980)—Interpretation of the Secretary's Regulation Regarding Presumption of Death—Title II of the Social Security Act.

Notice of Rescission Published: July 14, 1995, at 60 FR 36327.

AR 86-11(11) Autrey v. Harris, 639 F.2d 1233 (5th Cir. 1981)—Interpretation of the Secretary's Regulation Regarding Presumption of Death—Title II of the Social Security Act.

Notice of Rescission Published: July 14, 1995, at 60 FR 36327.

AR 86-17(9) Owens v. Schweiker, 692 F.2d 80 (9th Cir. 1982)—Child's Benefits—Title II of the Social Security Act.

Notice of Rescission Published: October 28, 1998, at 63 FR 57727.

AR 87-1(6) Webb v. Richardson, 472 F.2d 529 (6th Cir. 1972)—Attorneys' Fees—Single Fee, Not to Exceed 25 Percent of Past-Due Benefits, Set by Tribunal Which Ultimately Upholds the Claim—Title II of the Social Security Act.

Notice of Rescission Published: March 3, 1995, at 60 FR 11977.

AR 87-2(11) Butterworth v. Bowen, 796 F.2d 1379 (11th Cir. 1986)—The Conditions under Which the Appeals Council has the Right to Reopen and Revise Prior Decisions—Titles II and XVI of the Social Security Act.

Notice of Rescission Published: July 7, 1998, at 63 FR 36726.

AR 87-3(9) Hart v. Bowen, 799 F.2d 567 (9th Cir. 1986)—Current Market Value of an Installment Sales Contract as an Excess Resource.

Notice of Rescission Published: February 9, 1995, at 60 FR 7782.

AR 87-4(8) Iamarino v. Heckler, 795 F.2d 59 (8th Cir. 1986)—Positive Presumption of Substantial Gainful Activity (SGA) for Sheltered Work.

Notice of Rescission Published: July 11, 2000, at 65 FR 42793.

AR 87-5(3) Velazquez v. Heckler, 802 F.2d 680 (3d Cir. 1986)—Consideration of Vocational Factors in Past Work Determination.

Notice of Rescission Published: July 16, 1990, at 55 FR 28943.

AR 88-1(11) Patterson v. Bowen, 799 F.2d 1455 (11th Cir. 1986), reh'g denied, February 12, 1987—Use of the Age Factor in the Medical-Vocational Guidelines in Making Disability Decisions.

Notice of Rescission Published: April 6, 2000, at 65 FR 18143.

AR 88-3(7) McDonald v. Bowen, 800 F.2d 153 (7th Cir. 1986), amended on reh'g, 818 F.2d 559 (7th Cir. 1987)—Entitlement to Benefits Where a Person Returns to Work Less Than 12 Months After Onset of Disability.

Notice of Rescission Published: June 10, 2002, at 67 FR 39781.

AR 88-5(1) McCuin v. Secretary of Health and Human Services, 817 F.2d 161 (1st Cir. 1987)—Reopening by the Appeals Council of Decisions of Administrative Law Judges under Titles II and XVI of the Social Security Act.

Notice of Rescission Published: February 23, 1994, at 59 FR 8650.

AR 88-7(5) Hickman v. Bowen, 803 F.2d 1377 (5th Cir. 1986)—Evaluation of Loans of In-Kind Support and Maintenance for Supplemental Security Income Benefit Calculation Purposes.

Notice of Rescission Published: September 8, 1992, at 57 FR 40918.

AR 90-1(9) Paxton v. Secretary of Health and Human Services, 856 F .2d 1352 (9th Cir.1988)—Treatment of Dependent's Portion of Augmented Veterans Benefit Paid Directly to Veteran—Title XVI of the Social Security Act.

Notice of Rescission Published: November 17, 1994, at 59 FR 59416.

AR 90-3(4) Smith v. Bowen, 837 F.2d 635 (4th Cir. 1987)—Use of Vocational Expert or Other Vocational Specialist in Determining Whether a Claimant Can Perform Past Relevant Work—Titles II and XVI of the Social Security Act.

Notice of Rescission Published: August 26, 2003, at 68 FR 51317.

AR 90-5(2) Kier v. Sullivan, 888 F.2d 244 (2d Cir. 1989), reh'g denied, January 22, 1990—Assessment of Residual Functional Capacity in Disabled Widows' Cases—Title II of the Social Security Act.

Notice of Rescission Published: May 22, 1991, at 56 FR 23592.

AR 90-6(1) Cassas v. Secretary of Health and Human Services, 393 F.2d 454 (1st Cir. 1990), reh'g denied, April 9, 1990—Assessment of Residual Functional Capacity in Disabled Widows' Cases—Title II of the Social Security Act.

Notice of Rescission Published: May 22, 1991, at 56 FR 23591.

AR 90-7(9) Ruff v. Sullivan, 907 F.2d 915 (9th Cir. 1990)—Assessment of Residual Functional Capacity in Disabled Widows' Cases—Title II of the Social Security Act.

Notice of Rescission Published: May 22, 1991, at 56 FR 23592.

AR 92-3(4) Branham v. Heckler, 775 F.2d 1271 (4th Cir. 1985); Flowers v. U.S. Department of Health and Human Services, 904 F.2d 211 (4th Cir. 1990)—What Constitutes a Significant Work-Related Limitation of Function.

Notice of Rescission Published: August 21, 2000, at 65 FR 50784.

AR 92-6(10) Walker v. Secretary of Health and Human Services, 943 F.2d 1257 (10th Cir. 1991)—Entitlement to Trial Work Period Before Approval of an Award for Benefits and Before Twelve Months Have Elapsed Since Onset of Disability-Titles II and XVI of the Social Security Act.

Notice of Rescission Published: June 10, 2002, at 67 FR 39871.

AR 93-1(4) Branham v. Heckler, 775 F.2d 1271 (4th Cir. 1985); Flowers v. U.S. Department of Health and Human Services, 904 F.2d 211 (4th Cir. 1990)—What Constitutes an Additional and Significant Work-Related Limitation of Function—Titles II and XVI of the Social Security Act.

Notice of Rescission Published: August 21, 2000, at 65 FR 50784.

AR. 93-2(2) Conley v. Bowen, 859 F.2d 261 (3d Cir. 1988)—Determination of Whether an Individual With a Disabling Impairment Has Engaged in Substantial Gainful Activity Following a Reentitlement Period—Title II of the Social Security Act.

Notice of Rescission Published: August 10, 2000, at 65 FR 42793.

AR 93-3(6) Akers v. Secretary of Health and Human Services, 966 F.2d 205 (6th Cir. 1992)—Attorney's Fees Based in Part on Continued Benefits Paid to Social Security Claimants—Title II of the Social Security Act.

Notice of Rescission Published: April 14, 2000, at 65 FR 20239.

AR 93-4(2) Condon and Brodner v. Bowen, 853 F.2d 66 (2d Cir. 1988)—Attorney's Fees Based in Part on Continued Benefits Paid to Social Security Claimants—Title II of the Social Security Act.

Notice of Rescission Published: April 14, 2000, at 65 FR 20239.

AR 93-5(11) Shoemaker v. Bowen, 853 F.2d 858 (11th Cir. 1988)—Attorney's Fees Based in Part on Continued Benefits Paid to Social Security Claimants—Title II of the Social Security Act.

Notice of Rescission Published: April 14, 2000, at 65 FR 20239.

AR 93-6(8) Brewster on Behalf of Keller v. Sullivan, 972 F.2d 898 (8th Cir. 1992)—Interpretation of the Secretary's Regulation Regarding Presumption of Death—Title II of the Social Security Act.

Notice of Rescission Published: July 14, 1995, at 60 FR 36327.

AR 94-2(4) Lively v. Secretary of Health and Human Services, 820 F.2d 1391 (4th Cir. 1987)—Effect of Prior Disability Findings on Adjudication of a Subsequent Disability Claim Arising Under the Same Title of the Social Security Act—Titles II and XVI of the Social Security Act.

Notice of Rescission Published: January 12, 2000, at 65 FR 1936.

AR 95-1(6) Preslar v. Secretary of Health and Human Services, 14 F.3d 1107 (6th Cir. 1994)—Definition of Highly Marketable Skills for Individuals Close to Retirement Age—Titles II and XVI of the Social Security Act.

Notice of Rescission Published: April 6, 2000, at 65 FR 18144.

AR 97-1(1) Parisi By Cooney v. Chater, 69 F.3d 814 (1st Cir. 1995)—Reduction of Benefits Under the Family Maximum In Cases Involving Dual Entitlement—Title II of the Social Security Act.

Notice of Rescission Published: October 27, 1999, at 64 FR 57919.

AR 97-2(9) Gamble v. Chater, 68 F.3d 319 (9th Cir. 1995)—Amputation of a Lower Extremity—When the Inability to Afford the Cost of a Prosthesis Meets the Requirements of Section 1.10C of the Listing of Impairments—Titles II and XVI of the Social Security Act.

Notice of Rescission Published: November 19, 2001, at 66 FR 58047.

AR 98-1(8) Newton v. Chater, 92 F.3d 688 (8th Cir. 1996)—Entitlement to Trial Work Period Before Approval of an Award for Benefits and Before Twelve Months Have Elapsed Since Onset of Disability—Titles II and XVI of the Social Security Act.

Notice of Rescission Published: June 10, 2002, at 67 FR 39781.

AR 98-2(8) Sird v. Chater, 105 F.3d 401 (8th Cir. 1997)—Mental Retardation—What Constitutes an Additional and Significant Work-Related Limitation of Function—Titles II and XVI of the Social Security Act.

Notice of Rescission Published: August 21, 2000, at 65 FR 50784.

AR 99-1(2) Florez on Behalf of Wallace v. Callahan, 156 F.3d 438 (2d Cir. 1998)— Supplemental Security Income—Deeming of Income From a Stepparent to a Child When the Natural Parent is Not Living in the Same Household—Title XVI of the Social Security Act.

Notice of Rescission Published: May 15, 2008, at 73 FR 28181.

AR 99-2(8) Kerns v. Apfel, 160 F.3d 164 (8th Cir. 1998)—Definition of Highly Marketable Skills for Individuals Close to Retirement Age—Titles II and XVI of the Social Security Act.

Notice of Rescission Published: April 6, 2000, at 65 FR 18144.

AR 99-3(5) McQueen v. Apfel, 168 F.3d 152 (5th Cir, 1999)—Definition of Highly Marketable Skills for Individuals Close to Retirement Age—Titles II and XVI of the Social Security Act.

Notice of Rescission Published: April 6, 2000, at 65 FR 18144.

AR 00-2(7) Hickman v. Apfel, 187 F.3d 683 (7th Cir. 1999)—Evidentiary Requirements for Determining Medical Equivalence to a Listed Impairment—Titles II and XVI of the Social Security Act.

Notice of Rescission Published: March 1, 2006, at 71 FR 10584.

AR 00-3(10) Haddock v. Apfel, 196 F.3d 1084 (10th Cir, 1999)—Use of Vocational Expert Testimony and the Dictionary of Occupational Titles Under 20 CFR 404.1566, 416.966—Titles II and XVI of the Social Security Act.

Notice of Rescission Published: December 4, 2000, at 65 FR 75758.

AR 00-4(2) Curry v. Apfel, 209 F.3d 117 (2d Cir. 2000)—Burden of Proving Residual Functional Capacity at Step Five of the Sequential Evaluation Process for Determining Disability—Titles II and XVI of the Social Security Act.

Notice of Rescission Published: August 26, 2003, at 68 FR 51317.

AR 00-5(6) Salamalekis v. Apfel, 221 F.3d 828 (6th Cir. 2000)—Entitlement to Trial Work Period Before Approval of an Award of Benefits and Before 12 Months Have Elapsed Since the Alleged Onset of Disability—Titles II and XVI of the Social Security Act.

Notice of Rescission Published: June 10, 2002, at 67 FR 39781.

Dated: March 20, 2012.
LaTina Burse Greene,
Assistant Deputy Commissioner for Retirement and Disability Policy.

[FR Doc. 2012-7182 Filed 3-26-12; 8:45 am]

BILLING CODE 4191-02-P